ENVIRONMENTAL PROTECTION AGENCY

[EPA-R01-OW-2008-0214; FRL-8697-8]

Massachusetts Marine Sanitation Device Standard—Notice of Determination

AGENCY: Environmental Protection Agency (EPA).

ACTION: Notice of Determination.

SUMMARY: The Regional Administrator of the Environmental Protection Agency—New England Region, has determined that adequate facilities for the safe and sanitary removal and treatment of sewage from all vessels are reasonably available for the state waters of Cape Cod Bay in the municipalities of Provincetown, Truro, Wellfleet, Eastham, Orleans, Brewster, Dennis, Yarmouth, Barnstable, Sandwich and Bourne.

ADDRESSES: Docket: All documents in the docket are listed in the www.regulations.gov index. Although listed in the index, some information is not publicly available, e.g., CBI or other information whose disclosure is restricted by statute. Certain other material, such as copyrighted material, will be publicly available only in hard copy. Publicly available docket materials are available electronically in www.regulations.gov.

FOR FURTHER INFORMATION CONTACT: Ann Rodney, U.S. Environmental Protection Agency—New England Region, One Congress Street, Suite 1100, COP, Boston, MA 02114-2023. Telephone: (617) 918-0538. Fax number: (617) 918-1505. E-mail address: rodney.ann@epa.gov.

SUPPLEMENTARY INFORMATION: On May 22, 2008, EPA published a notice that the Commonwealth of Massachusetts had petitioned the Regional Administrator, Environmental Protection Agency, to determine that adequate facilities for the safe and sanitary removal and treatment of sewage from all vessels are reasonably available for the state waters of Cape Cod Bay in the municipalities of Provincetown, Truro, Wellfleet, Eastham, Orleans, Brewster, Dennis, Yarmouth, Barnstable, Sandwich and Bourne. Two comments were received on this petition.

The petition was filed pursuant to Section 312(f)(3) of Public Law 92-500, as amended by Public Laws 95-217 and 100-4, for the purpose of declaring these waters a No Discharge Area (NDA).

Section 312(f)(3) states: After the effective date of the initial standards and regulations promulgated under this section, if any State determines that the protection and enhancement of the quality of some or all of the waters within such States require greater environmental protection, such State may completely prohibit the discharge from all vessels of any sewage, whether treated or not, into such waters, except that no such prohibition shall apply until the Administrator determines that adequate facilities for the safe and sanitary removal and treatment of sewage from all vessels are reasonably available for such water to which such prohibition would apply.

This Notice of Determination is for the state waters of Provincetown, Truro, Wellfleet, Eastham, Orleans, Brewster, Dennis, Yarmouth, Barnstable, Sandwich and Bourne, collectively referred to as Cape Cod Bay. The NDA includes:

Waterbody/general area | Latitude | Longitude
Eastern Landward Boundary—Line of longitude |  | 70°10′00″ W.
Northeastern Seaward Boundary—West along State Territorial line | 42°08′00″ N | 70°10′00″ W.
Northwestern Landward Boundary—State Line intersection with Mean High Water line | 42°09′00″ N | 70°42′00″ W.

The NDA boundary includes the municipal waters of Provincetown, Truro, Wellfleet, Eastham, Orleans, Brewster, Dennis, Yarmouth, Barnstable, Sandwich and Bourne and extends to the boundary between state and federal waters. Cape Cod Bay is bordered on three sides by the geographic landforms of Cape Cod and the South Shore of Massachusetts.

The information submitted to EPA by the Commonwealth of Massachusetts certifies that there are eight pumpout facilities located within this area. A list of the facilities, with phone numbers, locations, and hours of operation is appended at the end of this determination.

Based on the examination of the petition, its supporting documentation, and information from site visits conducted by EPA New England staff, EPA has determined that adequate facilities for the safe and sanitary removal and treatment of sewage from all vessels are reasonably available for the area covered under this determination.

This determination is made pursuant to Section 312(f)(3) of Public Law 92-500, as amended by Public Laws 95-217 and 100-4.

Pumpout Facilities Within the No Discharge Area
Name | Location | Contact info. | Hours | Mean low water depth (ft)
Sandwich Marina | Sandwich | (508) 833-0808 VHF 9, 16 | 8 a.m.-5 p.m., 7 days a week | 5
Barnstable Town Marina | Barnstable | (508) 790-6272 VHF 9, 16 | 8 a.m.-4 p.m., 7 days a week | 4.5
Northside Marina | East Dennis | (508) 385-3936 VHF 7 | 8 a.m.-5 p.m., 7 days a week | 8
Orleans Town Pier at Rock Harbor | Orleans | (508) 240-3755 VHF 16, 66 | 8 a.m.-4 p.m., 7 days a week | 4
Town of Wellfleet Marina | Wellfleet | (508) 349-0320 VHF 9 | 8 a.m.-6 p.m., 7 days a week | 6
Provincetown Harbor | Provincetown | (508) 487-7030 VHF 9, 16 | 10 a.m.-4 p.m., 7 days a week | 6
Dennis | Dennis | (508) 385-5555 VHF 9, 68 | 7 days a week | 5
Provincetown | Provincetown | (508) 489-7030 VHF 68 | 7 days a week | 5

Dated: July 7, 2008.
Robert W. Varney,
Regional Administrator, New England Region.

[FR Doc. E8-17101 Filed 7-24-08; 8:45 am]

BILLING CODE 6560-50-P